DEPARTMENT OF HEALTH AND HUMAN SERVICES

Centers for Disease Control and Prevention

[30Day-23-23CV]

Agency Forms Undergoing Paperwork Reduction Act Review

In accordance with the Paperwork Reduction Act of 1995, the Centers for Disease Control and Prevention (CDC) has submitted the information collection request titled “Reducing Fatigue Among Taxi/Rideshare Drivers” to the Office of Management and Budget (OMB) for review and approval. CDC previously published a “Proposed Data Collection Submitted for Public Comment and Recommendations” notice on March 10, 2023 to obtain comments from the public and affected agencies. CDC received four non-substantive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Reducing Fatigue Among Taxi/Rideshare Drivers—New—National Institute for Occupational Safety and Health (NIOSH), Centers for Disease Control and Prevention (CDC).

Background and Brief Description

Taxi drivers routinely work long hours and late night or early morning shifts. Shift work and long work hours are linked to many health and safety risks due to disturbances to sleep and circadian rhythms. Fatigue is a significant contributor to transportation-related injuries, most notably among shift workers. Such work schedules and inadequate sleep likely contribute to health issues and injuries among taxi drivers who experience a roadway fatality rate of 3.5 times higher than all civilian workers and had the highest rate of nonfatal work-related motor vehicle injuries treated in emergency departments. The urban and interurban transportation industry ranks the third highest in costs per employee for motor vehicle crashes. Tired drivers endanger others on the road (e.g., other drivers, passengers, bicyclists, pedestrians) in addition to themselves and their passengers. An important approach to reducing fatigue-related risks is to inform employers and taxi drivers about the risks and strategies to reduce their risks.

The purpose of this project is to evaluate a training program to inform taxi drivers and other drivers for hire who transport passengers (“rideshare” services) of the risks linked to shift work and long work hours and to evaluate strategies for taxi drivers to reduce these risks. The proposed study site will be the Flywheel Taxi Company in San Francisco, with approximately 500 drivers, who have agreed to share data collected on the study participants. The recruitment of 180 study participants and data collection onsite will be performed by a NIOSH contractor trained by the NIOSH project personnel. This research study involves two parts: development of a fatigue management eLearning training tool designed for drivers-for-hire (e.g., taxi drivers; ride sourcing drivers); and an evaluation of the use of this tool as an intervention. The training tool will educate drivers about fatigue as a risk factor for motor vehicle crashes, the negative health and safety effects of fatigue, and how to reduce fatigue by improving sleep, health, nutrition, and work schedules. There will be pre- and post-module knowledge tests to evaluate the training. The training will be offered online, free of charge, and will be viewable on multiple platforms (e.g., smartphone, tablet, laptop). All participants will also wear a wristband actigraph used to measure sleep/wake cycles, which will serve as a second intervention. The actigraph data will provide a personalized, objective daily measure of fatigue for each participant. One group of participants will receive feedback (an external prompt) from the actigraph which may be used to assess individual fatigue level and trigger self-reflection on fitness to drive and act accordingly.

A randomized pre-post with control group longitudinal study design will evaluate the training and the driver's response to feedback from the actigraph. Specifically, there are two intervention groups: (1) training plus actigraph fatigue level feedback (N=60); and (2) training only but no fatigue level feedback from the actigraph (N=60). The control group (N=60) will receive neither training nor feedback on fatigue level from their actigraph. Participants will complete a baseline and follow-up Work and Health survey, sleep and activities diaries, and sleep health knowledge questions during each of five observation periods. The Work and Health survey administered in the first observation period will be more comprehensive and the abbreviated follow up Work and Health surveys administered for the remaining observation periods will serve to capture only responses to questions that can change from one observation period to the next. Only participants randomly selected to take the training will complete a training evaluation survey used to strengthen the training's effectiveness. As part of their daily sleep and health diaries drivers will be asked to complete three-minute psychomotor vigilance tests (PVTs) five times throughout the day to directly measure alertness using an app installed on an electronic device. At the end of the data collection period the training will be offered to the remaining study participants who will be provided an opportunity to complete the training and training evaluation survey.

Study staff will use the findings from this evaluation to improve the training program, including content and delivery, as well as compare fatigue between intervention groups. Potential impacts of this project include improvements in work behaviors for coping with shift work and long work hours and an objective reduction in fatigue compared to the control groups. This project is poised to have considerable impact in the contribution of an evidence base for effective interventions that could be used by other taxi companies and drivers for ride sourcing companies to promote strategies in road safety.

All study participants (N=180) will be fitted with a wrist actigraph. All study participants will complete the Work and Health survey, and the knowledge survey during each study observation period (five times each per participant). All participants will complete the sleep and activity diary five times a day, each day for 35 days (175 times total) which will require approximately five minutes for each response which includes both survey questions and the Psychomotor Vigilance Test. Participants in the intervention groups (N=120) will complete the online training and evaluation. For purposes of burden estimation, the total number of annualized participants is 90, the annualized number of participants in the control group is 30, and the total annualized number of participants in the intervention groups is 60. Information collection is the same for all participants, except for the Fatigue Training Evaluation Survey which will only be completed by participants in the intervention groups.

CDC requests OMB approval for two years. Participation is voluntary and there are no costs to participants other than their time. The total estimated annualized burden is 1,794 hours.

Estimated Annualized Burden Hours
Type of respondents | Form name | Number of respondents | Number of responses per respondent | Average burden per response (in hours)
Taxi and Rideshare Drivers | Fatigue Training Evaluation Survey | 60 | 1 | 15/60
| Actigraph Training and Fitting | 90 | 1 | 10/60
| Sleep & Activities Diary (including Psychomotor Vigilance Test) | 90 | 175 | 5/60
| Work & Health Survey | 90 | 5 | 45/60
| Knowledge Survey | 90 | 5 | 15/60

Jeffrey M. Zirger,
Lead, Information Collection Review Office, Office of Public Health Ethics and Regulations, Office of Science, Centers for Disease Control and Prevention.

[FR Doc. 2023-15543 Filed 7-20-23; 8:45 am]

BILLING CODE 4163-18-P